DEPARTMENT OF DEFENSE

Department of the Air Force

Notice of Intent To Prepare an Environmental Assessment for Rocket Cargo Test and Demonstration at Johnston Atoll, United States (EAXX-007-57-USF-1728497279)

AGENCY: United States Space Force, Department of the Air Force, Department of Defense.

ACTION: Notice of intent.

SUMMARY: The Department of the Air Force (DAF) is issuing this notice of intent (NOI) to advise the public of the pending preparation of an Environmental Assessment (EA) to evaluate the impacts of construction and operation of two landing pads at Johnston Atoll for up to 10 reentry vehicle landings per year over four consecutive years to support the test, demonstration, and evaluation of capabilities under the DAF Rocket Cargo Vanguard program (Proposed Action). The Federal Aviation Administration (FAA) and the U.S. Fish and Wildlife Service, National Wildlife Refuge System (USFWS) are cooperating agencies.

DATES: The DAF anticipates that a Draft EA and Draft Finding of No Significant Impact (FONSI) will be available for public review in early April 2025 and posted on U.S. Air Force websites for the Pacific Air Forces (PACAF) and the Air Force Installation and Mission Support Center. During a 30-day public review period, agencies and the public will be encouraged to submit written comments for the DAF's consideration.

FOR FURTHER INFORMATION CONTACT: Once available, electronic copies of the Draft EA and Draft FONSI may be found online at https://www.afcec.af.mil/Home/Environment/National-Environmental-Policy-Act-Center/ and https://www.jber.jb.mil/Services-Resources/Environmental/NEPA/. The public and agencies will be advised to submit questions or comments concerning the Draft EA or the Draft FONSI to the project managers at AFCEC.CIE.RocketCargo@us.af.mil; media inquiries should be directed to the PACAF Regional Support Center Public Affairs Officer, tommie.baker@us.af.mil, or mailed to 10471 20th Street, Suite 243, Joint Base Elmendorf-Richardson, Alaska 99506-2101 (Attn: Tommie Baker).

SUPPLEMENTARY INFORMATION: The purpose of the Proposed Action is to safely test and demonstrate the expeditious delivery of tons of materiel through space in support of ongoing research, development, test, and experimentation under the DAF Rocket Cargo Vanguard program. Under the Rocket Cargo Vanguard, the Air Force Research Laboratory is leading a science and technology effort to determine the viability and utility of using large commercial rockets for Department of Defense (DoD) global logistics, potentially expanding the portfolio of capabilities the United States Space Force presents to combatant commanders. The need for the Proposed Action is to advance novel space capabilities to transport materiel in hours anywhere around the globe. Current military modes of transportation require days to weeks of planning and logistics to provide materiel to distant locations at the time and place of need. The Proposed Action would explore the military utility of this technology to address rapid global mobility challenges by leveraging commercial technology to mature critical capabilities.

To begin the testing, demonstration, and evaluation of these capabilities as soon as 2025, the DAF's operational requirements necessitate use of a landing location that ensures public safety and adherence to applicable sections of 14 CFR part 450, Launch and Reentry Licensing Requirements, as implemented by the FAA, and limits impacts to ongoing military operations. In accordance with these operational requirements, the DAF further determined that the location must be remote, securable, U.S. Government-controlled, capable of air or maritime transport of personnel and materiel and support the disposition and removal of reentry vehicles via barged transport. Based on these operational requirements, the DAF identified several initial locations potentially capable of supporting reentry vehicle landings: Johnston Atoll, Kwajalein Atoll, Midway Island, and Wake Island. Upon further examination, the DAF concluded that Johnston Atoll is the only location that meets all operational requirements over the duration of the four-year reentry and landing test program. Therefore, Johnston Atoll is the alternative to be considered in the EA.

Johnston Island, an unincorporated territory of the United States within Johnston Atoll located in a broad ocean area, was identified as the safest and most viable location to meet operational requirements. Johnston Atoll includes the Johnston Atoll National Wildlife Refuge and is within the Pacific Islands Heritage Marine National Monument (PIHMNM). This area has historically enabled decades of DoD operations in support of national defense and holds important national ecological and cultural values.

Expected effects of the Proposed Action that will be analyzed in the EA include but are not limited to the potential effects on essential fish habitat, migratory birds, and other protected species. Potential effects to protected species will be addressed under consultation with USFWS and National Marine Fisheries Service (NMFS) as appropriate.

As required, the DAF will also analyze the no action alternative for this Proposed Action. The DAF will coordinate and consult as appropriate with the USFWS under Section 7 of the Endangered Species Act (ESA), the Migratory Bird Treaty Act, and the National Wildlife Refuge System Administration Act, and with the NMFS under Section 7 of the ESA, the Marine Mammal Protection Act, and the Magnuson-Stevens Fishery Conservation and Management Act. Additionally, the DAF is committed to working with the FAA, USFWS, NMFS, other stakeholders, and interested parties to advance cultural, ecological and conservation protections at Johnston Atoll, the Johnston Atoll National Wildlife Refuge, and the PIHMNM.

Tommy W. Lee,
Acting Air Force Federal Register Liaison Officer.

[FR Doc. 2025-03359 Filed 2-28-25; 8:45 am]

BILLING CODE 3911-44-P